FEDERAL MARITIME COMMISSION

Ocean Transportation Intermediary License Revocation

The Federal Maritime Commission hereby gives notice that the following Ocean Transportation Intermediary license has been revoked pursuant to section 19 of the Shipping Act of 1984 (46 U.S.C. Chapter 409) and the regulations of the Commission pertaining to the licensing of Ocean Transportation Intermediaries, 46 CFR part 515, effective on the corresponding date shown below:

License Number: 2178N.

Name: Leschaco, Inc.

Address: One Evertrust Plaza, Suite 304, Jersey City, NJ 07302.

Date Revoked: January 18, 2012.

Reason: Voluntarily surrendered license.

License Number: 2452F.

Name: R.C. Shipping Company, Inc.

Address: 5811 Green Terrace Lane, Houston, TX 77088-5413.

Date Revoked: January 30, 2012.

Reason: Voluntarily surrendered license.

License Number: 3729N.

Name: Tratto International Forwarders Corporation.

Address: 801 Madrid Street, Suite 1, Coral Gables, FL 33134.

Date Revoked: January 20, 2012.

Reason: Failed to maintain a valid bond.

License Number: 11374N.

Name: S P C Consolidators, Inc.

Address: 1950 S. Starpoint Drive, Houston, TX 77032.

Date Revoked: January 30, 2012.

Reason: Voluntarily surrendered license.

License Number: 018356N.

Name: Americar Global Logistics, Inc.

Address: 6931 NW 87th Avenue, Miami, FL 33178.

Date Revoked: January 9, 2012.

Reason: Failed to maintain a valid bond.

License Number: 020297N.

Name: Lorimer Cargo Express, Inc.

Address: 9811 NW 80th Avenue, Bay U-7, Hialeah Gardens, FL 33016.

Date Revoked: January 23, 2012.

Reason: Failed to maintain a valid bond.

License Number: 022406N.

Name: GTO Autotrade, Inc. dba Global Trade Organization.

Address: 8840 NW 18th Terrace, Doral, FL 33172.

Date Revoked: January 1, 2012.

Reason: Failed to maintain a valid bond.

License Number: 022436NF.

Name: RLE International, Inc.

Address: 8243 NW 66th Street, Miami, FL 33166.

Date Revoked: January 20, 2012.

Reason: Failed to maintain valid bonds.

License Number: 022258N.

Name: Platinum Moving Services, Inc.

Address: 7610-P Rickenbacker Drive, Gaithersburg, MD 20879.

Date Revoked: January 4, 2012.

Reason: Failed to maintain a valid bond.

License Number: 022750NF.

Name: Viva Logistics Inc.

Address: 1338 64th Street, Brooklyn, NY 11219.

Dates Revoked: January 8, 2012 & January 9, 2012.

Reason: Failed to maintain valid bonds.

License Number: 022799N.

Name: Atlantic Cargo Logistics, LLC.

Address: 120 South Woodland Blvd., Suite 216, Deland, FL 32720.

Date Revoked: January 9, 2012.

Reason: Failed to maintain a valid bond.

Tanga FitzGibbon,
Deputy Director, Bureau of Certification and Licensing.

[FR Doc. 2012-3774 Filed 2-16-12; 8:45 am]

BILLING CODE 6730-01-P